FEDERAL DEPOSIT INSURANCE CORPORATION

Agency Information Collection Activities: Submission for OMB Review; Comment Request

AGENCY: Federal Deposit Insurance Corporation (FDIC).

ACTION: Notice of information collection to be submitted to OMB for review and approval under the Paperwork Reduction Act of 1995.

SUMMARY: In accordance with requirements of the Paperwork Reduction Act of 1995 (44 U.S.C. 3501 et seq.), the FDIC hereby gives notice that it plans to submit to the Office of Management and Budget (OMB) a request for OMB review and approval of the information collection system described below.

Type of Review: Renewal of collection.

Title: Extensions of Credit to Executive Officers.

OMB Number: 3064-0108.

Estimate of Annual Burden

Number of respondents: 4,000.

Frequency of response: Occasional.

Number of responses per respondent: 2.

Total annual responses: 8,000.

Time per response: 1 hour.

Total annual burden: 8,000 hours.

Comments: Comments on this collection of information are welcome and should be submitted on or before July 19, 2004 to both the OMB reviewer and the FDIC contact listed below.

OMB: Mark Menchik, (202) 395-3176, Office of Information and Regulatory Affairs, Office of Management and Budget, New Executive Office Building, Washington, DC 20503.

FDIC: Thomas Nixon, Legal Division (202) 898-8766, Federal Deposit Insurance Corporation, 550 17th Street NW., Washington, DC 20429.

ADDRESSES: Information about this submission, including copies of the collection of information, may be obtained by calling or writing the FDIC contact listed above.

SUPPLEMENTARY INFORMATION: The information collection takes the form of (1) a report by executive officers of insured nonmember banks to their boards of directors within 10 days of incurring any indebtedness to any other bank in an amount in excess of the amount the insured nonmember bank could lend to the officer, and (2) a report from insured nonmember banks, included with their reports of condition filed with the FDIC, on any extensions of credit made by the bank to its executive officers since the bank filed its last report of condition. The information enables the FDIC and insured nonmember banks to determine compliance with the limits and restrictions contained in Federal Reserve Board of Governors' Regulation O (12 CFR part 215, subpart A), which is made applicable to state nonmember banks by the FDIC's regulation at 12 CFR 337.3.

Dated at Washington, DC this 15th day of June, 2004.
Federal Deposit Insurance Corporation.
Robert E. Feldman,
Executive Secretary.

[FR Doc. 04-13818 Filed 6-17-04; 8:45 am]

BILLING CODE 6714-01-P